DEPARTMENT OF VETERANS AFFAIRS

National Research Advisory Council, Amended, Notice of Meeting

The Department of Veterans Affairs (VA) gives notice under the Federal Advisory Committee Act, 5 U.S.C. Ch. 10, that the National Research Advisory Council (NRAC) will hold a meeting on Tuesday, March 24, 2026, at 811 Vermont Avenue NW, Washington, DC 20571, in Room 4042. A virtual attendance option is available via Teams. The teleconference number is 1-872-701-0185, Phone Conference ID: 431 546 419# or the meeting link is: https://teams.microsoft.com/l/meetup-join/19%3ameeting_MmIxNWJlMWYtZWEyYS00MDEyLWIzYzQtNWRiNmJlZWM0OTY2%40thread.v2/0?context=%7b%22Tid%22%3a%22e95f1b23-abaf-45ee-821d-b7ab251ab3bf%22%2c%22Oid%22%3a%22bbe000de-64c3-4465-99a0-83e8fddd9836%22%7d.

The meeting will convene at 10:00 a.m. and end at approximately 4:00 p.m. Eastern Standard Time. This meeting is open to the public and will include time reserved for public comments at the end of the meeting. The public comment period will be 30 minutes. Individual stakeholders will be given up to 5 minutes to express their comments.

The purpose of NRAC is to advise the Secretary on research conducted by the Veterans Health Administration, including policies and programs targeting the high priority of Veterans' health care needs.

On March 24, 2026, the agenda will include a summary of the previous meeting, next steps for the Council regarding possible recommendations related to research partnerships between the Department of Veterans Affairs and Department of Defense; presentations from the VA Office of Research and Development; and public comments.

Members of the public may submit written statements for review by the NRAC in advance of the meeting. Public comments may be received no later than close of business March 18, 2026, for inclusion in the official meeting record. Please send statements to Amanda Garcia, Designated Federal Officer, Office of Research and Development (14RD), Department of Veterans Affairs, 810 Vermont Avenue NW, MS: 14RD, Washington, DC 20420, at 202-304-3540, or Amanda.Garcia@va.gov. Any member of the public seeking additional information should contact Amanda Garcia at the phone number or email address noted above.

Dated: February 12, 2026.
LaTonya L. Small,
Federal Advisory Committee Management Officer.

[FR Doc. 2026-03079 Filed 2-13-26; 8:45 am]

BILLING CODE 8320-01-P